DEPARTMENT OF STATE

[Public Notice 3852]

Designation of 39 “Terrorist Organizations” Under the “PATRIOT USA Act”

AGENCY: Office of the Coordinator for Counterterrorism, Department of State.

ACTION: Designation.

Pursuant to Section 411(a)(1)(G) of the Uniting and Strengthening America by providing Appropriate Tools Required to Intercept and Obstruct Terrorism Act of 2001, Pub. L. No. 107-56, 115 Stat. 272 (“USA PATRIOT Act”), the Secretary of State, in consultation with the Attorney General, hereby designates each group listed in the Appendix to this notice as a “terrorist organization.” This designation is effective upon publication.

Section 411(a)(1)(G) of the USA PATRIOT Act requires the Secretary of State to find that a group has engaged in terrorism-related activities before designating it as a “terrorist organization.” This statutory requirement has been satisfied because classified and/or unclassified information available to the Secretary of State contains findings that the named groups have committed, or have provided material support to further, terrorist acts.

Dated: December 5, 2001.
Mark Wong,
Acting Coordinator for Counterterrorism, Department of State.

Appendix

—Al-Ittihad al-Islami (AIAI)

—Al-Wafa al-Igatha al-Islamia

—Asbat al-Ansar

—Darkazanli Company

—Salafist Group for Call and Combat (GSPC)

—Islamic Army of Aden

—Libyan Islamic Fighting Group

—Makhtab al-Khidmat

—Al-Hamati Sweets Bakeries

—Al-Nur Honey Center

—Al-Rashid Trust

—Al-Shifa Honey Press for Industry and Commerce

—Jaysh-e-Mohammed

—Jamiat al-Ta'awun al-Islamiyya

—Alex Boncayao Brigade (ABB)

—Army for the Liberation of Rwanda (ALIR)—AKA: Interahamwe,Former Armed Forces (EX-FAR)

—First of October Antifascist Resistance Group (GRAPO)—AKA: Grupo de Resistencia Anti-Fascista Premero De Octubre

—Lashkar-e-Tayyiba (LT)—AKA: Army of the Righteous

—Continuity Irish Republican Army (CIRA)—AKA: Continuity Army Council

—Orange Volunteers (OV)

—Red Hand Defenders (RHD)

—New People's Army (NPA)

—People Against Gangsterism and Drugs (PAGAD)

—Revolutionary United Front (RUF)

—Al-Ma'unah

—Jayshullah

—Black Star

—Anarchist Faction for Overthrow

—Red Brigades-Combatant Communist Party (BR-PCC)

—Revolutionary Proletarian Nucleus

—Turkish Hizballah

—Jerusalem Warriors

—Islamic Renewal and Reform Organization

—The Pentagon Gang

—Japanese Red Army (JRA)

—Jamiat ul-Mujahideen (JUM)

—Harakat ul Jihad i Islami (HUJI)

—The Allied Democratic Forces (ADF)

—The Lord's Resistance Army (LRA)

[FR Doc. 01-30576 Filed 12-6-01; 12:55 pm]

BILLING CODE 4710-10-P